DEPARTMENT OF EDUCATION

Notice Inviting Applications (NIA) for the FY 2020; Education Stabilization Fund-Rethink K-12 Education Models (ESF-REM) Discretionary Grant Program

AGENCY: Office of Elementary and Secondary Education, Department of Education.

ACTION: Notice.

SUMMARY: The Department of Education (Department) is issuing an NIA for eligible applicants for the FY 2020 ESF-REM Grants program under section 18001(a)(3) of Division B of the Coronavirus Aid, Relief, and Economic Security Act (CARES Act), Catalog of Federal Domestic Assistance (CFDA) number 84.425B. This notice relates to the approved information collection under OMB control number 1894-0006.

DATES:

Applications Available: April 30, 2020.

Deadline for Notice of Intent to Apply: May 19, 2020.

Deadline for Transmittal of Applications: June 29, 2020.

ADDRESSES: For the addresses for obtaining and submitting an application, please refer to our Common Instructions for Applicants to Department of Education Discretionary Grant Programs, published in the Federal Register on February 13, 2019 (84 FR 3768) and available at www.govinfo.gov/content/pkg/FR-2019-02-13/pdf/2019-02206.pdf.

FOR FURTHER INFORMATION CONTACT: Jennifer Todd, U.S. Department of Education, 400 Maryland Avenue SW, room 3E303, Washington, DC 20202. Telephone: (202) 453-6984. Email: ESF-REM@ed.gov. Website: https://oese.ed.gov/offices/education-stabilization-fund/states-highest-coronavirus-burden/.

If you use a telecommunications device for the deaf (TDD) or a text telephone (TTY), call the Federal Relay Service (FRS), toll free, at 1-800-877-8339.

SUPPLEMENTARY INFORMATION:

Full Text of Announcement

I. Funding Opportunity Description

Purpose of Program: The purpose of the ESF-REM Grants program is to provide support through discretionary grants to State educational agencies (SEAs) (as defined in this notice) in States with the highest coronavirus burden (as defined in this notice) to address specific educational needs of students, their parents, and teachers in public and non-public elementary and secondary schools in accordance with section 18001(a)(3) of the CARES Act.

Background: The Education Stabilization Fund (ESF) is a new appropriation of approximately $30.75 billion that creates funding streams for several distinct education programs that address the impact of the Novel Coronavirus Disease 2019 (COVID-19) on educational services across the Nation. Under all of these Department programs including the ESF-REM grants, the Department will make awards to States for a variety of activities to help prevent, prepare for, and respond to the devastating effects of COVID-19. The coronavirus pandemic has resulted in not only a public health crisis, but school closures across the country impacting over 40 million students. For that reason, responding effectively to coronavirus must include addressing remote learning (as defined in this notice) needs of students throughout the United States. In addition to this NIA, the Department is also publishing a notice elsewhere in the Federal Register for Education Stabilization Fund—Reimagining Workforce Preparation (ESF-RWP) Discretionary Grant program, which will help States and communities respond to coronavirus by creating new opportunities for unemployed individuals to regain their economic security through small business creation and career pathways that lead to a recognized postsecondary credential.

The ESF-REM Grants competition includes three absolute priorities of which the applicant addresses one priority. An SEA may only submit one application to the ESF-REM Grants competition.

Under Absolute Priority 1, applicants must provide funding through microgrants (as defined in this notice) to allow parents (as defined in this notice) to meet the educational needs of their school-age children, through increased access to high-quality remote learning to support their educational needs, as these terms are defined in this notice. This priority is intended to address the individual needs of students and promote continuity of learning. In their applications, States would identify proposed uses of funds including the types of education and related services, expenses, and providers that would be available through microgrants.

Absolute Priority 2 encourages the development and/or expansion of a high-quality course-access program (as these terms are defined in this notice) or statewide virtual school (as defined in this notice). Course-access programs enable students to select from different courses offered by any public school in the State or by third-party providers, regardless of a student's assigned school. Research has shown that expanding online access to advanced coursework not otherwise available is an effective way to broaden access and may increase the likelihood of these students taking other advanced courses. (Heppen, J.B., Walters, K., Clements, M., Faria, A., Tobey, C., Sorensen, N., & Culp, K. (2012)) Virtual schools can offer flexibility to students who may have difficulty accessing or attending brick-and-mortar schools, especially given school closures. One study of a statewide virtual school in the southern U.S. suggested a virtual school may produce similar outcomes at a lower overall cost than traditional schooling and that students may in fact be more productive in a virtual school environment. (Chingos, M. and Schwert, G. (2014))

Absolute Priority 3 allows applicants to propose their own educational strategies that demonstrate a rationale (as defined in this notice) to address the specific educational needs of their States, as related to remote learning.

Priorities: This notice contains three absolute priorities. We are establishing these priorities for the FY 2020 grant competition, and any subsequent year in which we make awards from the list of unfunded applications from this competition, in accordance with section 437(d)(1) of the General Education Provisions Act (GEPA), 20 U.S.C. 1232(d)(1).

Absolute Priorities: These priorities are absolute priorities. Under 34 CFR 75.105(c)(3) we consider only applications that meet one of these absolute priorities. The Secretary intends to award grants under each of the absolute priorities for which applications of sufficient quality are submitted. Because applications will be placed in rank order separately by absolute priority, applicants must clearly identify the specific absolute priority that the proposed project addresses. Each State may submit only one application under this competition that addresses one absolute priority. In selecting grantees across Absolute Priorities 1-3, the Department may fund applications from one absolute priority with a higher or lower score than an application from another absolute priority and may also reallocate among these priorities based on the quality of applications.

These priorities are:

Absolute Priority 1—Continued Learning Parent Microgrants.

Applications that propose microgrants to allow a parent to access high-quality remote learning options from a list of education and related services, expenses, and providers, which may include any needed connectivity and devices, that meets the student's educational needs. A State must—

(a) Provide the parents and students with a list of service providers from which the parents and students may select.

(b) Include more than one education service for remote learning that parents and students may choose, which may include—

(1) Tuition and fees for a public or private course or program, especially online;

(2) Concurrent and dual enrollment at a postsecondary institution particularly for career and technical education experiences;

(3) Special education and related services including therapies;

Note: Any services provided do not alter a local educational agency's (LEA's) obligation to provide supports and services to a child with a disability under Part B of the Individuals with Disabilities Act (IDEA) and under Section 504 of the Rehabilitation Act of 1973.

(4) Contracted educational services provided by a public or nonpublic school;

(5) Tutoring;

(6) Summer or afterschool education programs;

(7) Testing preparation and examination fees, including Advanced Placement examinations, industry certification exams, state licensure exams, and any examinations related to college or university admission;

(8) Academic, college, and career counseling services;

(9) Application fees, including for public and non-public school students;

(10) Textbooks, curriculum, or other instructional materials; and

(11) Other education-related services and materials that are reasonable and necessary, which may include, but cannot be the only microgrant account use—

(i) Computer hardware, software, or other technological devices including adaptive devices;

(ii) internet access or hotspots;

(iii) Textbooks, curriculum, or other instructional materials; and

(c) Provide an online and other method to enable parents and students to select services and ensure that the parent's microgrant account is established within the project period of the grant and the parent is aware of how much funds are available. Such a method must—

(1) Reach out to the most disadvantaged students and parents;

(2) Ensure that funds will be transferred directly from the State to the selected service provider;

(3) Include multiple service providers including non-government service providers; and

(4) Provide tools to help parents choose the most appropriate and effective services for their children.

(d) Include a parent involvement and feedback process that—

(1) Describes a way for parents to request services or providers that are not currently offered and provide input on services provided in the creation of the list and through the project, and describes how the grantee will provide parents with written responses to requests within 30 days; and

(2) Support the grantee in outreach to parents and to assist parents, which may include a parent liaison, and the grantee with the process by which a parent can request services or providers, including services or providers not already specified by the State;

(3) Include a fair and documented process to choose students to be served, such as a lottery or other transparent criteria (e.g., based on particular types of need such as disability status or family income), in the event that the number of requests from parents of public and non-public school students for services under the project exceeds the available capacity, with regard to the number or intensity of services offered; and

(4) Ensure that at least 80 percent of grant funds are used for services directly utilized by public and non-public school students under the microgrants, and no more than five percent of grant funds are used for administrative costs (as defined in this notice).

Absolute Priority 2—Statewide Virtual Learning and Course Access Programs.

Applications that propose projects to—

(a) Develop a statewide virtual learning or course access program, such as by—

(1) Designing and assembling high-quality educational content; and

(2) Creating and launching the platform of a statewide virtual learning or course-access program; or

(b) Expand an existing statewide virtual learning or high-quality course access program, such as by—

(1) Serving more students;

(2) Adding new courses based on student and parent interest or alignment with workforce development needs; and

(3) Implementing new instructional strategies (e.g. competency-based instruction).

In addition to addressing (a) or (b), an application must propose to—

(c) Implement a statewide course-access program or virtual school;

(d) Widely disseminate information on the availability of course-access programs or virtual school programs; and

(e) Include a parent involvement and feedback process that—

(1) Describes a way for parents to request courses or programming that are not currently offered and provide input on services provided through the project, and how the State will carefully consider such comments;

(2) May include a parent liaison to support the grantee in outreach to parents and to assist parents and the grantee with the process by which a parent can request courses and programming; and (3) Include a fair and documented process to choose students to be served, such as a lottery or other transparent criteria (e.g., based on particular types of need such as disability status or family income), in the event that the number of requests from parents of public and non-public school students for services under the project exceeds the available capacity, with regard to the number or intensity of services offered.

To meet this absolute priority, the applicant must describe how its course-access program as a whole would make a broad range of courses widely available and free for all students in the State, though a particular course need not be available to every student in the State, or how a statewide virtual school would be established or significantly expanded providing both a full-time education program or supplemental education available to all students in the State. Applicants should describe how they will determine which courses or programming to develop or expand, based on students' needs and how it will ensure the courses it offers are high-quality.

Applicants are encouraged to design programs using common schema and linked data standards compatible with interoperable learning records, as defined in the American Workforce Policy Advisory Board, “White Paper on Interoperable Learning Records,” September 2019, available at: www.commerce.gov/sites/default/files/2019-09/ILR_White_Paper_FINAL_EBOOK.pdf.

Absolute Priority 3—Field-Initiated Projects for Educational Models for Remote Learning to Improve Student Outcomes.

Applications that propose projects that demonstrate a rationale and that are designed to create, develop, implement, replicate, or take to scale field-initiated educational models for remote learning. Projects should address specific needs pertaining to accessing high-quality remote learning opportunities.

Note: An applicant addressing any one of absolute priorities must ensure equitable access (as defined in this notice) for non-public school students.

Definitions: The definitions of “local educational agency,” “parent,” and “State educational agency” are from section 8101 of the ESEA (20 U.S.C. 7801). The definitions for “ambitious,” “baseline,” “demonstrates a rationale,” “logic model,” “performance measure,” “performance target,” “project component,” and “relevant outcome” are from 34 CFR 77.1. We are establishing the definitions for “administrative costs,” “coronavirus burden,” “course-access program,” “equitable access,” “high-quality,” “microgrant,” “remote learning,” and “statewide virtual school” for the FY 2020 grant competition and any subsequent year in which we make awards from the list of unfunded applications from this competition in accordance with section 437(d)(1) of GEPA, 20 U.S.C. 1232(d)(1).

Administrative costs mean expenses that include costs (direct and indirect) involved in the proper and efficient performance and administration of this Federal grant.

Ambitious means promoting continued, meaningful improvement for program participants or for other individuals or entities affected by the grant or representing a significant advancement in the field of education research, practices, or methodologies. When used to describe a performance target (as defined in this notice), whether a performance target is ambitious depends upon the context of the relevant performance measure (as defined in this notice) and the baseline (as defined in this notice) for that measure.

Baseline means the starting point from which performance is measured and targets are set.

Coronavirus burden means burden on a State from coronavirus based on the measures in the application package and any measures identified by the applicant in response to Application Requirement 3.

Course-access program means a program that—

(1) Provides students the option to enroll in one or more courses that are not currently offered virtually or otherwise available in the student's school;

(2) Includes courses offered by multiple providers, from which students, or parents on behalf of students, may choose;

(3) Makes available courses for remote learning;

(4) Ensures that coursework materials and the formats and technologies by which they are made available are accessible to students with disabilities; and

(5) Is available to all students in the State, including non-public school students on an equitable basis.

Demonstrates a rationale means a key project component included in the project's logic model (as defined in this notice) is informed by research or evaluation findings that suggest the project component is likely to improve relevant outcomes.

Equitable access means a grantee must provide students enrolled in non-public schools with the same opportunity to access program benefits as students attending public schools, which may include proportional provision of services to both public and non-public school students.

High-quality means the project described in the grant application should consider available research in the design of the project and collect and disseminate information about the results of the project, such as student outcomes, student participation and parental satisfaction.

Local educational agency (LEA) means—

(a) A public board of education or other public authority legally constituted within a State for either administrative control or direction of, or to perform a service function for, public elementary schools or secondary schools in a city, county, township, school district, or other political subdivision of a State, or of or for a combination of school districts or counties that is recognized in a State as an administrative agency for its public elementary schools or secondary schools.

(b) The term includes any other public institution or agency having administrative control and direction of a public elementary school or secondary school.

(c) The term includes an elementary school or secondary school funded by the Bureau of Indian Education but only to the extent that including the school makes the school eligible for programs for which specific eligibility is not provided to the school in another provision of law and the school does not have a student population that is smaller than the student population of the LEA (as defined in this notice) receiving assistance under the ESEA with the smallest student population, except that the school shall not be subject to the jurisdiction of any SEA other than the Bureau of Indian Education.

(d) The term includes educational service agencies and consortia of those agencies.

(e) The term includes the SEA in a State in which the SEA is the sole educational agency for all public schools.

Logic model (also referred to as a theory of action) means a framework that identifies key project components of the proposed project (i.e., the active “ingredients” that are hypothesized to be critical to achieving the relevant outcomes) and describes the theoretical and operational relationships among the key project components and relevant outcomes.

Microgrant means an account established for a parent that provides funds directly to service providers to expand educational choice. The parent must have easy access to and visibility into the account and it must allow the parent to select particular education services, expenses, or materials, to expand the ability to choose high-quality educational opportunities to meet their needs.

Parent—The term “parent” includes a legal guardian or other person standing in loco parentis (such as a grandparent or stepparent with whom the child lives, or a person who is legally responsible for the child's welfare).

Performance measure means any quantitative indicator, statistic, or metric used to gauge program or project performance.

Performance target means a level of performance that an applicant would seek to meet during the course of a project or as a result of a project.

Project component means an activity, strategy, intervention, process, product, practice, or policy included in a project. Evidence may pertain to an individual project component or to a combination of project components (e.g., training teachers on instructional practices for English learners and follow-on coaching for these teachers).

Relevant outcome means the student outcome(s) or other outcome(s) the key project component is designed to improve, consistent with the specific goals of the program.

Remote learning means educational or instructional programming that mostly occurs away from the physical school building and is delivered in a student-focused manner that addresses a student's educational needs. This includes both non-technology-based learning (e.g., paper packets, in-person tutoring) and “distance education” as defined in section 103(7) of the Higher Education Act of 1965, as amended, and “distance learning” as defined in ESEA section 8101(14).

State educational agency (SEA) means the agency primarily responsible for the State supervision of public elementary or secondary schools.

Statewide virtual school means an online education program available to public and non-public school students that provides full-time education and supplemental coursework to students in other full-time education programs.

Application Requirements: The following application requirements are established for the FY 2020 ESF-REM Grants competition and any subsequent year in which we make awards from the list of unfunded applications from this competition in accordance with section 437(d)(1) of GEPA, 20 U.S.C. 1232(d)(1). Applicants must address the following application requirements:

(1) Describe the applicant's approach to addressing one of the three absolute priorities contained in this notice. This description should include an implementation plan and timeline for key grant activities and a plan for how the applicant will assess the number of students served, and, if applying for Absolute Priority 1, how the grantee will select parents to receive microgrants; how the applicant will assess parent satisfaction with the State's grant-related remote learning offerings; and the number and different types, as defined by the grantee, of new remote learning options provided in order to address the performance measures for the grant.

(2) Provide an analysis of the immediate needs in the State to support remote learning and describe how the proposed project will address those needs.

(3) Include a description of the State's coronavirus burden based on indicators and information factors other than those provided in the application package that demonstrate the significance of the impact of COVID-19 on students, parents, and schools in the State. This description may include additional data, including other public health measures such as coronavirus-related deaths per capita, or any other relevant education, labor or demographic data.

(4) Provide an analysis of State assets and collaborative efforts made by the State (including supports already provided from Federal and non-Federal sources) to improve outcomes for students during this national emergency, including, at a minimum, parent and student supports and collaborations with nonprofits, local businesses, LEAs, institutions of higher education, and other relevant stakeholders. At a minimum this analysis should also include the following:

(a) A description of the steps the State is taking at the time of the application to address the State's immediate education needs.

(b) A description of the barriers the State has faced in meeting such needs.

(5) Provide an assurance that the applicant will provide information to the Secretary, as requested, for evaluations that the Secretary may carry out. This may include, but is not limited to, working with grantees at the outset of the grant to establish common performance measures.

This may include, but is not limited to, working with grantees at the outset of the grant to establish common performance measures, data elements, or data definitions.

(6) Demonstrate support for the proposed project by the Governor of the State, such as through a letter signed by the Governor.

Exemption from Rulemaking: Under the Administrative Procedure Act (5 U.S.C. 553) the Department generally offers interested parties the opportunity to comment on proposed priorities, selection criteria, definitions, and other requirements. Section 437(d)(1) of GEPA, however, allows the Secretary to exempt from rulemaking requirements regulations governing the first grant competition under a new or substantially revised program authority. This is the first grant competition for this program under section 18001(a)(3) of the CARES Act, and therefore qualifies for this exemption. In order to ensure timely grant awards, the Secretary has decided to forgo public comment on the priorities, requirements, definitions, and selection criteria under section 437(d)(1) of GEPA.

Program Authority: Section 18001(a)(3) of Title VIII of Division B of the CARES Act, Public Law 116-36 (enacted March 27, 2020).

Applicable Regulations: (a) The Education Department General Administrative Regulations in 34 CFR parts 75, 77, 79, 81, 82, 84, 97, 98, and 99. (b) The Office of Management and Budget Guidelines to Agencies on Governmentwide Debarment and Suspension (Nonprocurement) in 2 CFR part 180, as adopted and amended as regulations of the Department in 2 CFR part 3485. (c) The Uniform Administrative Requirements, Cost Principles, and Audit Requirements for Federal Awards in 2 CFR part 200, as adopted and amended as regulations of the Department in 2 CFR part 3474.

II. Award Information

Estimated Available Funds: $180,000,000.

These estimated available funds are the amount available for ESF-REM grants under the FY 2020 CARES Act. The Department will determine the number of awards to be made under each absolute priority based on the quality of applications received consistent with the selection criteria and priorities. It will also determine the size of an award made to an eligible applicant based on a review of the eligible applicant's budget. The Department may use any unused funds designated for this competition to make awards under the ESF-REM program.

Estimated Range of Awards: $5,000,000-$20,000,000.

Estimated Average Size of Awards: $15,000,000.

Estimated Number of Awards: 13-14; 4 awards under each absolute priority, dependent on sufficient quality.

Note: The Department is not bound by any estimates in this notice.

Project Period: Up to 36 months.

III. Eligibility Information

1. Eligible Applicants: SEAs.

2. Cost Sharing or Matching: This program does not require cost sharing or matching.

3. Subgrantees: A grantee under this competition may not award subgrants to entities to directly carry out project activities described in its application.

IV. Application and Submission Information

1. Application Submission Instructions: Applicants are required to follow the Common Instructions for Applicants to Department of Education Discretionary Grant Programs, published in the Federal Register on February 13, 2019 (84 FR 3768) and available at www.govinfo.gov/content/pkg/FR-2019-02-13/pdf/2019-02206.pdf, which contain requirements and information on how to submit an application. Grants.gov has relaxed the requirement for applicants to have an active registration in the System for Award Management (SAM) in order to apply for funding. In the event a registration expires before an award is issued, the Department will relax the active registration requirement and not delay funds due to the COVID-19 crisis.

2. Intergovernmental Review: This program is subject to Executive Order 12372 and the regulations in 34 CFR part 79. However, under 34 CFR 79.8(a), we waive intergovernmental review in order to make timely awards.

3. Funding Restrictions: We reference regulations outlining funding restrictions in the Applicable Regulations section of this notice. Each eligible entity may charge an amount of administrative costs that is reasonable and necessary to effectively administer the program consistent with cost principles in 2 CFR part 200, subpart E of the Uniform Administrative Requirements, Cost Principles, and Audit Requirements for Federal Awards (Uniform Guidance). Administrative costs include costs (direct and indirect) involved in the proper and efficient performance and administration of this Federal grant. However, to maximize the funds available for services to students and the public, the Department encourages each eligible entity to minimize the amount of administrative costs charged to the program.

4. Recommended Page Limit: The application narrative (Part III of the application) is where you, the applicant, address the selection criteria and priority that reviewers use to evaluate your application. We recommend that you (1) limit the application narrative to no more than 25 pages and (2) use the following standards:

• A “page” is 8.5” x 11”, on one side only, with 1” margins at the top, bottom, and both sides.

• Double space (no more than three lines per vertical inch) all text in the application narrative, including titles, headings, footnotes, quotations, references, and captions.

• Use a font that is either 12 point or larger or no smaller than 10 pitch (characters per inch).

• Use one of the following fonts: Times New Roman, Courier, Courier New, or Arial.

The recommended page limit does not apply to Part I, the cover sheet; Part II, the budget section, including the narrative budget justification; Part IV, the assurances and certifications; or the one-page abstract, the resumes, the letters of support, or the appendices. However, the recommended page limit does apply to all of the application narrative.

5. Notice of Intent to Apply: We will be able to develop a more efficient process for reviewing grant applications if we know the approximate number of applicants that intend to apply for funding under this competition. Therefore, the Secretary strongly encourages each potential applicant to notify us of the applicant's intent to submit an application by sending an email to ESF-REM@ed.gov with ESF-REM Intent to Apply in the subject line. Applicants that do not send a notice of intent to apply may still apply for funding.

V. Application Review Information

1. Selection Criteria: The selection criteria for this competition are either from 34 CFR 75.210, or are being established for the FY 2020 grant competition and any subsequent year in which we make awards from the list of unfunded applications from this competition in accordance with section 437(d)(1) of GEPA, 20 U.S.C. 1232(d)(1). The points assigned to each criterion are indicated in the parentheses next to the criterion. An applicant may earn up to a total of 100 points based on the selection criteria for the application.

A. Highest Coronavirus Burden (up to 40 points).

In determining the States with the highest coronavirus burden, the Secretary considers the extent to which the State has a high coronavirus burden as follows:

(1) The extent to which the applicant, based on the factors listed in the application package, when weighted equally, is in the—

(i) Up to 20th percentile of coronavirus burden (4 points);

(ii) 21st to 40th percentile of coronavirus burden (8 points);

(iii) 41st to 60th percentile of coronavirus burden (12 points);

(iv) 61st to 80th percentile of coronavirus burden (16 points); or

(v) 81st to 100th percentile of coronavirus burden. (20 points) (GEPA Waiver)

(2) The extent to which the applicant has a high coronavirus burden based on indicators and information factors identified by the applicant in response to Application Requirement 3. (20 points) (GEPA Waiver)

B. Quality of Project Services and Project Plan (up to 35 points).

The Secretary considers the quality of project services and project plan.

In determining the quality of the project services and project plan, the Secretary considers the quality and sufficiency of strategies for ensuring equal access and treatment for eligible project participants who are members of groups that have traditionally been underrepresented based on race, color, national origin, gender, age, or disability. (up to 5 points)

In addition, the Secretary considers—

(1) The extent to which the proposed project is an exceptional approach to absolute priority being addressed and includes a detailed project plan for addressing the absolute priority. (up to 10 points) (GEPA waiver)

(2) The extent to which specific gaps or weaknesses in services, infrastructure, or opportunities have been identified and will be addressed by the proposed project to respond to the needs of students. (up to 10 points) (GEPA waiver)

(3) The likelihood that the services to be provided by the proposed project will expand access to remote learning options and lead to improvements in student outcomes. (up to 5 points) (GEPA waiver)

(4) The extent to which the services to be provided by the proposed project reflect up-to-date knowledge from research and effective practice. (up to 5 points) (GEPA waiver)

C. Quality of the Management Plan and Adequacy of Resources (up to 25 points).

The Secretary considers the quality of the management plan and adequacy of resources. In determining the quality of the management plan and adequacy of resources, the Secretary considers—

(1) The adequacy of the management plan to achieve the objectives of the proposed project on time and within budget, including clearly defined responsibilities, timelines, and milestones for accomplishing project tasks. (up to 5 points) (34 CFR 75.210)

(2) The extent to which the proposed use of funds will adequately support the proposed project. (up to 5 points) (GEPA waiver)

(3) The extent to which the costs are reasonable in relation to the objectives, design, and potential significance of the proposed project. (up to 5 points) (34 CFR 75.210)

(4) The extent to which the costs are reasonable in relation to the number of persons to be served and to the anticipated results and benefits. (up to 10 points) (34 CFR 75.210)

2. Review and Selection Process: The Department will announce awards within 30 days of the deadline for transmittal of applications of this competition. We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary requires various assurances, including those applicable to Federal civil rights laws that prohibit discrimination in programs or activities receiving Federal financial assistance from the Department (34 CFR 100.4, 104.5, 106.4, 108.8, and 110.23).

Before making awards, we will screen applications submitted in accordance with the requirements in this notice to determine whether applications have met eligibility and other requirements. This screening process may occur at various stages of the process; applicants that are determined to be ineligible will not receive a grant, regardless of peer reviewer scores or comments.

Peer reviewers will read, prepare a written evaluation of, and score the assigned applications, using the selection criteria provided in this notice.

3. Risk Assessment and Specific Conditions: Consistent with 2 CFR 200.205, before awarding grants under this competition the Department conducts a review of the risks posed by applicants. Under 2 CFR 3474.10, the Secretary may impose specific conditions and, in appropriate circumstances, high-risk conditions on a grant if the applicant or grantee is not financially stable; has a history of unsatisfactory performance; has a financial or other management system that does not meet the standards in 2 CFR part 200, subpart D; has not fulfilled the conditions of a prior grant; or is otherwise not responsible.

4. Integrity and Performance System: If you are selected under this competition to receive an award that over the course of the project period may exceed the simplified acquisition threshold (currently $250,000), under 2 CFR 200.205(a)(2), we must make a judgment about your integrity, business ethics, and record of performance under Federal awards—that is, the risk posed by you as an applicant—before we make an award. In doing so, we must consider any information about you that is in the integrity and performance system (currently referred to as the Federal Awardee Performance and Integrity Information System (FAPIIS)), accessible through the System for Award Management. You may review and comment on any information about yourself that a Federal agency previously entered and that is currently in FAPIIS.

Please note that, if the total value of your currently active grants, cooperative agreements, and procurement contracts from the Federal Government exceeds $10,000,000, the reporting requirements in 2 CFR part 200, Appendix XII, require you to report certain integrity information to FAPIIS semiannually. Please review the requirements in 2 CFR part 200, Appendix XII, if this grant plus all the other Federal funds you receive exceed $10,000,000.

VI. Award Administration Information

1. Award Notices: If your application is successful, we notify your U.S. Representative and U.S. Senators and send you a Grant Award Notification (GAN); or we may send you an email containing a link to access an electronic version of your GAN. We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Open Licensing Requirements: Unless an exception applies, if you are awarded a grant under this competition, you will be required to openly license to the public grant deliverables created in whole, or in part, with Department grant funds. When the deliverable consists of modifications to pre-existing works, the license extends only to those modifications that can be separately identified and only to the extent that open licensing is permitted under the terms of any licenses or other legal restrictions on the use of pre-existing works. Additionally, a grantee that is awarded competitive grant funds must have a plan to disseminate these public grant deliverables. This dissemination plan can be developed and submitted after your application has been reviewed and selected for funding. For additional information on the open licensing requirements please refer to 2 CFR 3474.20(c).

4. Reporting: (a) If you apply for a grant under this competition, you must ensure that you have in place the necessary processes and systems to comply with the reporting requirements in 2 CFR part 170 should you receive funding under the competition. This does not apply if you have an exception under 2 CFR 170.110(b).

(b) In addition to annual performance reporting, a grantee must submit to the Department a quarterly report that provides data and information meeting the requirements of section 15011 of the CARES Act.

(c) At the end of your project period, you must submit a final performance report, including financial information, as directed by the Secretary. If you receive a multiyear award, you must submit an annual performance report that provides the most current performance and financial expenditure information as directed by the Secretary under 34 CFR 75.118. The Secretary may also require more frequent performance reports under 34 CFR 75.720(c). For specific requirements on reporting, please go to www.ed.gov/fund/grant/apply/appforms/appforms.html.

(d) Under 34 CFR 75.250(b), the Secretary may provide a grantee with additional funding for data collection analysis and reporting. In this case the Secretary establishes a data collection period.

5. Performance Measures: We have established the following performance measures for the ESF-REM Grants program: (1) The number of students served by the project; (2) the percentage of parents who reported satisfaction with the remote learning options available; and (3) the number and different types, as defined by the grantee, of new remote learning options provided.

In addition, applicants must propose project-specific performance measures and performance targets consistent with the objectives of the proposed project, which must include at least one student-based educational outcome measure.

Applicants must provide the following information as directed under 34 CFR 75.110(b) and (c):

(a) Performance Measures. How each proposed performance measure would accurately measure the performance of the project and how the proposed performance measures would be consistent with the performance measures established for the program funding the competition.

(b) Baseline Data.

(i) Why each proposed baseline is valid; or

(ii) If the applicant has determined that there are no established baseline data for a particular performance measure, an explanation of why there is no established baseline and of how and when, during the project period, the applicant would establish a valid baseline for the performance measure.

(c) Performance Targets. Why each proposed performance target is ambitious (as defined in this notice) yet achievable compared to the baseline for the performance measure and when, during the project period, the applicant would meet the performance target(s).

(d) Data Collection and Reporting.

(i) The data collection and reporting methods the applicant would use and why those methods are likely to yield reliable, valid, and meaningful performance data; and

(ii) The applicant's capacity to collect and report reliable, valid, and meaningful performance data, as evidenced by high-quality data collection, analysis, and reporting in other projects or research.

All grantees must submit an annual performance report with information that is responsive to these performance measures.

VII. Other Information

Accessible Format: Individuals with disabilities can obtain this document and a copy of the application package in an accessible format (e.g., braille, large print, audiotape, or compact disc) on request to the program contact person listed under FOR FURTHER INFORMATION CONTACT.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at www.federalregister.gov. Specifically, through the advanced search feature at this site, you can limit your search to documents published by the Department.

Frank Brogan,
Assistant Secretary for Elementary and Secondary Education.

[FR Doc. 2020-09274 Filed 4-30-20; 8:45 am]

BILLING CODE 4000-01-P